DEPARTMENT OF LABOR

Office of the Secretary

Submission for OMB Review: Comment Request

March 9, 2006.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employee Benefits Security Administration (EBSA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension of currently approved collection.

Title: Settlement Agreements Between a Plan and Party in Interest.

OMB Number: 1210-0091.

Frequency: On occasion.

Type of Response: Recordkeeping and third party disclosure.

Affected Public: Business or other for-profit; individuals or households; and not-for-profit institutions.

Number of Respondents: 4.

Number of Annual Responses: 1,080.

Estimated Time Per Response: 1 hour and 32 minutes.

Total Burden Hours: 28.

Total Annualized capital/startup costs: $0.

Total Annual Costs (operating/maintaining systems or purchasing services): $281.

Description: Section 408(a) of the Employee Retirement Income Security Act of 1974 (ERISA) and section 4975(c)(2) of the Internal Revenue Code of 1986 (the Code) give the Secretary of Labor the authority to grant an exemption to a class or order of fiduciaries, disqualified persons, or transactions from all or part of the restrictions imposed by sections 406 and 407(a) of ERISA and from the taxes imposed by sections 4975(a) and (b) of the Code, by reason of section 4975(c)(1) of the Code.

This information collection request (ICR) relates to two prohibited transaction class exemptions (PTEs) that the Department of Labor (the Department) has granted, both of which involve settlement agreements. PTE 94-71 exempts from certain restrictions of the Employee Retirement Income Security Act and certain taxes of the Code, settlement agreements entered into between a plan and a party in interest resulting from an investigation of an employee benefit plan by the Department. PTE 03-39 similarly exempts from certain restrictions of ERISA and certain taxes of the Code, settlement agreements entered into between a plan and a party in interest in avoidance of litigation.

The information collections are intended to protect participants and beneficiaries under the plans that engage in settlement agreements. Without the required disclosures, the Department would be unable to enforce effectively the terms of the exemptions and ensure transactional compliance. The information collections allow the Department to monitor the settlement activities (under PTE 94-71) undertaken in connection with its own investigations and to review other settlement agreements within the scope of its investigations. The information collection under PTE 94-71 also provides participants and beneficiaries with important information about transactions affecting their plan.

Agency: Employee Benefits Security Administration.

Type of Review: Extension of currently approved collection.

Title: Notice of Blackout Period under ERISA.

OMB Number: 1210-0122.

Frequency: On occasion.

Type of Response: Third party disclosure.

Affected Public: Business or other for-profit; individuals or households; and not-for-profit institutions.

Number of Respondents: 50,680.

Number of Annual Responses: 5,400,000.

Estimated Time Per Response: 1 hour and 32 minutes.

Total Burden Hours: 187,686.

Total Annualized capital/startup costs: $0.

Total Annual Costs (operating/maintaining systems or purchasing services): $1,407,000.

Description: Public Law 107-204 amended section 101 of the Employee Retirement Income Security Act to require plan administrators to furnish affected participants and beneficiaries of individual account pension plans with advance written notice of a “blackout period” during which their right to direct or diversify investments, or obtain a loan or distributions, may be temporarily suspended.

Ira L. Mills,
Departmental Clearance Officer.

[FR Doc. E6-3842 Filed 3-15-06; 8:45 am]

BILLING CODE 4510-29-P